DEPARTMENT OF AGRICULTURE

Rural Utilities Service

Cardinal-Hickory Creek 345-kV Transmission Line Project

AGENCY: Rural Utilities Service, USDA.

ACTION: Notice of availability of a draft environmental impact statement; notice of public meetings; and section 106 notification to the public.

SUMMARY: Notice is hereby given that the Rural Utilities Service (RUS) has prepared a Draft Environmental Impact Statement (EIS) to meet its responsibilities under the National Environmental Policy Act (NEPA) and environmental policies and procedures related to providing financial assistance to Dairyland Power Cooperative (DPC). Further, in accordance with section 106 of the National Historic Preservation Act (NHPA) and pursuant to the regulations participation in the section 106 process and coordination with the National Environmental Policy Act, RUS is using its procedures for public involvement under NEPA to meet its responsibilities to solicit and consider the views of the public during the section 106 review for the proposed project. RUS would be providing financial assistance to DPC for its share in the construction of a proposed 345-kilovolt (kV) transmission line and associated infrastructure connecting the Hickory Creek Substation in Dubuque County, Iowa, with the Cardinal Substation in the Town of Middleton, Wisconsin (near Madison, Wisconsin). The Project also includes a new intermediate 345/138-kV substation near the Village of Montfort in either Grant County or Iowa County, Wisconsin. The total length of the 345- kV transmission lines associated with the proposed project will be approximately 125 miles. DPC and the other project participants have identified proposed and alternate segments and locations for transmission lines and associated facilities and for the intermediate substation. Dairyland Power Cooperative is requesting RUS to provide financing for its portion of the proposed project. DPC is participating in the proposed project with two other utilities, American Transmission Company LLC, and ITC Midwest LLC (Utilities).

The purpose of the proposed project is to: Address reliability issues on the regional bulk transmission system, alleviate congestion that occurs in certain parts of the transmission system and remove constraints that limit the delivery of power, expand the access of the transmission system to additional resources, increase the transfer capability of the electrical system between Iowa and Wisconsin, reduce the losses in transferring power and increase the efficiency of the transmission system, and respond to public policy objectives aimed at enhancing the nation's transmission system and to support the changing generation mix. A more detailed explanation of the purpose and need for the project can be found in the Draft EIS.

DATES: Written comments on this Draft EIS will be accepted for 60 calendar days following the publication of the U.S. Environmental Protection Agency's notice of receipt of the Draft EIS in the Federal Register. RUS will conduct six formal public meetings in the project area. A court reporter will be available to record agency and public comments.

Date | Location | Time | Venue
January 22, 2019 | Peosta, IA | 1:00-3:00 p.m | Peosta Community Center, 7896 Burds Road, Peosta, IA 52068.
January 22, 2019 | Guttenberg, IA | 6:00-8:00 p.m | Guttenberg Municipal Bldg., 502 First St., Guttenberg, IA 52052.
January 23, 2019 | Cassville, WI | 5:00-7:00 p.m | Cassville Middle School Cafeteria, 715 E Amelia St., Cassville, WI 53806.
January 24, 2019 | Dodgeville, WI | 5:00-7:00 p.m | Dodgeville Bowl Banquet Hall, 318 King St., Dodgerville, WI 53533.
January 28, 2019 | Barneveld, WI | 5:00-8:00 p.m | Deer Valley Lodge, 401 West Industrial Drive, Barneveld, WI 53507.
January 29, 2019 | Middleton, WI | 5:00-8:00 p.m | Madison Marriott West, 1313 John Q. Hammonds Drive, Middleton, WI 53562.

ADDRESSES: A copy of the Draft EIS may be viewed online at the following website: https://www.rd.usda.gov/publications/environmental-studies/impact-statements/cardinal-%E2%80%93-hickory-creek-transmission-line and Dairyland Power Cooperative, 3521 East Avenue South, La Crosse, WI 54602 and at 13 local libraries in the project area and the USFWS McGregor District Office in Prairie du Chien, WI.

FOR FURTHER INFORMATION CONTACT: To obtain copies of the Draft EIS, to request further participation or request consulting party status under section 106 of the NHPA or for further information, contact: Lauren Cusick or Dennis Rankin, Environmental Protection Specialist, USDA, Rural Utilities Service, 1400 Independence Avenue SW, Room 2244, Stop 1571, Washington, DC 20250-1571, by phone at (202) 720-1414 or email Lauren.Cusick@usda.gov or Dennis.Rankin@usda.gov.

SUPPLEMENTARY INFORMATION: RUS is the lead agency for the federal environmental review with cooperating and participating agencies as outlined in the Draft EIS. The first Notice of Intent (NOI) to Prepare an EIS and Hold Public Scoping Meeting was published in the Federal Register at 81 FR 71697, on October 18, 2016 to initiate a 30-day public scoping period. Four public scoping meetings for the EIS were held in the project area in October and November 2016, and the public comment was extended to 81 days and comments were accepted from October 18, 2016 through January 6, 2017. On November 22, 2016 RUS published a second NOI announcing a second round of public scoping meetings in December 2017. RUS issued a Scoping Report in May 2018.

The Draft EIS addresses the construction and operation of the proposed project, which, in addition to the 345-kV transmission line and associated infrastructure, includes the following facilities:

a. At the existing Cardinal Substation in Dane County, Wisconsin: A new 345-kV terminal within the substation;

b. At the new proposed Hill Valley Substation near the Village of Montfort, Wisconsin: A 10-acre facility with four 345-kV circuit breakers, one 345-kV shunt reactor, one 345-kV/138-kV autotransformer, and three 138-kV circuit breakers;

c. At the existing Eden Substation near the village of Montfort, Wisconsin: Transmission line protective relaying upgrades, ground grid improvements, and replacement of equipment within the Eden Substation;

d. Between the existing Eden Substation and the proposed Hill Valley Substation near the Village of Montfort, Wisconsin: A rebuild of the approximately 1-mile Hill Valley to Eden 138-kV transmission line;

e. At the existing Wyoming Valley Substation near Wyoming, Wisconsin: Ground grid improvements;

f. Between the existing Cardinal Substation and the proposed Hill Valley Substation: A new 50- to 53-mile (depending on the final route) 345-kV transmission line;

g. Between the proposed Hill Valley Substation and existing Hickory Creek Substation: A new 50- to 70-mile (depending on the final route) 345-kV transmission line;

h. At the Mississippi River in Cassville, Wisconsin: A rebuild and possible relocation of the existing Mississippi River transmission line crossing to accommodate the new 345-kV transmission line and Dairyland's 161-kV transmission line, and which would be capable of operating at 345-kV/345-kV but will initially be operated at 345-kV/161-kV;

1. depending on the final route and the Mississippi River crossing locations:

i. A new 161-kV terminal and transmission line protective relaying upgrades within the existing Nelson Dewey Substation in Cassville, Wisconsin;

ii. a replaced or reinforced structure within the Stoneman Substation in Cassville, Wisconsin;

iii. multiple, partial, or complete rebuilds of existing 69-kV and 138-kV transmission lines in Wisconsin that would be collocated with the new 345-kV line;

i. At the existing Turkey River Substation in Dubuque County, Iowa: Two 161-/69-kV transformers, four 161-kV circuit breakers, and five 69-kV circuit breakers; and

j. At the existing Hickory Creek Substation in Dubuque County, Iowa: A new 345-kV terminal within the existing Hickory Creek Substation.

Among the alternatives addressed in the Draft EIS is the No Action alternative, under which the proposed project would not be undertaken. Additional alternatives addressed in the Draft EIS include six action alternatives connecting the Cardinal Station in Wisconsin with the Hickory Creek Station in Iowa. RUS has carefully studied public health and safety, environmental impacts, and engineering aspects of the proposed project.

RUS used input provided by government agencies, private organizations, and the public in the preparation of the Draft EIS. RUS will prepare a Final EIS that considers all comments received on the Draft EIS. Following the 30 calendar day comment period for the Final EIS, RUS will prepare a Record of Decision (ROD). Notices announcing the availability of the Final EIS and the ROD will be published in the Federal Register and in local newspapers.

In accordance with section 106 of the National Historic Preservation Act and its implementing regulation, “Protection of Historic Properties” (36 CFR part 800) and as part of its broad environmental review process, RUS must take into account the effect of the proposed project on historic properties. Pursuant to 36 CFR 800.2(d)(3), RUS is using its procedures for public involvement under NEPA to meet its responsibilities to solicit and consider the views of the public during section 106 review. Any party wishing to participate more directly with RUS as a “consulting party” in section 106 review may submit a written request to the RUS contact provided in this notice.

The proposed project involves unavoidable impacts to wetlands and floodplains; this Notice of Availability also serves as a statement of no practicable alternatives to impacts on wetlands and floodplains, in accordance with Executive Orders 11990 and 11988, respectively.

Any final action by RUS related to the proposed project will be subject to, and contingent upon, compliance with all relevant Federal, State and local environmental laws and regulations, and completion of the environmental review requirements as prescribed in the RUS Environmental Policies and Procedures (7 CFR part 1970).

Dated: November 8, 2018.
Christopher A. McLean,
Assistant Administrator, Electric Programs, Rural Utilities Service.

[FR Doc. 2018-26558 Filed 12-6-18; 8:45 am]

BILLING CODE 3410-15-P